ENVIRONMENTAL PROTECTION AGENCY

[EPA-R10-OAR-2015-0322: FRL-9931-62-Region 10]

Adequacy Determination for the Grants Pass, Oregon Carbon Monoxide State Implementation Plan for Transportation Conformity Purposes

AGENCY: Environmental Protection Agency (EPA).

ACTION: Notice of adequacy determination.

SUMMARY: The Environmental Protection Agency (EPA) is notifying the public of its finding that the Grants Pass, Oregon second 10-year limited maintenance plan (LMP) for carbon monoxide (CO) is adequate for transportation conformity purposes. The LMP was submitted to the EPA by the State of Oregon Department of Environmental Quality (ODEQ or the State) on April 22, 2015. As a result of our adequacy finding, regional emissions analyses will no longer be required as part of the transportation conformity demonstrations for CO for the Grants Pass area.

DATES: This finding is effective August 17, 2015.

FOR FURTHER INFORMATION CONTACT: The finding will be available at the EPA's conformity Web site: http://www.epa.gov/otaq/stateresources/transconf/adequacy.htm. You may also contact Dr. Karl Pepple, U.S. EPA, Region 10 (OAWT-107), 1200 Sixth Ave., Suite 900, Seattle WA 98101; (206) 553-1778; or by email at pepple.karl@epa.gov.

SUPPLEMENTARY INFORMATION: This action provides notice of the EPA's adequacy finding regarding the second 10-year CO limited maintenance plan (LMP) for the Grants Pass area for purposes of transportation conformity. The EPA's finding was made pursuant to the adequacy review process for implementation plan submissions delineated at 40 CFR 93.118(f)(1) under which the EPA reviews the adequacy of a state implementation plan (SIP) submission prior to the EPA's final action on the implementation plan.

The State submitted the LMP to the EPA on April 22, 2015. Pursuant to 40 CFR 93.118(f)(1), the EPA notified the public of its receipt of this plan and its review for an adequacy determination on the EPA's Web site and requested public comment by no later than June 3, 2015. The EPA received no comments on the plan during the comment period. As part of our analysis, we also reviewed the State's compilation of public comments and response to comments that were submitted during the State's public process for the LMP. There were no adverse comments directed at the on-road portion of the LMP.

Based on our review, the EPA believes it is appropriate to find this LMP adequate for use in transportation conformity prior to final action on the LMP. The EPA has moved forward with an approval notice for the Grants Pass CO LMP. Until that action is final and effective, this adequacy finding allows the State to apply the LMP for transportation conformity purposes.

The EPA notified ODEQ in a letter dated June 24, 2015 (adequacy letter), subsequent to the close of the EPA comment period, that the EPA had found the LMP to be adequate for use in transportation conformity. A copy of the adequacy letter and its enclosure are available in the docket for this action and at the EPA's conformity Web site: http://www.epa.gov/otaq/stateresources/transconf/adequacy.htm.

Pursuant to 40 CFR 93.109(e), limited maintenance plans are not required to contain on-road motor vehicle emissions budgets. Accordingly, as a result of this adequacy finding, regional emissions analyses will no longer be required as a part of the transportation conformity demonstrations for CO for the Grants Pass area. However, other conformity requirements still remain such as consultation (40 CFR 93.112), transportation control measures (40 CFR 93.113), and project level analysis (40 CFR 93.116).

Transportation conformity is required by section 176(c) of the Clean Air Act. Transportation conformity to a SIP means that on-road transportation activities will not produce new air quality violations, worsen existing violations, or delay timely attainment of the national ambient air quality standards. The minimum criteria by which we determine whether a SIP is adequate for conformity purposes are specified at 40 CFR 93.118(e)(4). The EPA's analysis of how the LMP satisfies these criteria is found in the adequacy letter and its enclosure.

Authority: 42 U.S.C. 7401-767Iq.

Dated: July 15, 2015.
Dennis J. McLerran,
Regional Administrator, Region 10.

[FR Doc. 2015-18830 Filed 7-30-15; 8:45 am]

BILLING CODE 6560-50-P